Proclamation 8438 of October 9, 2009

General Pulaski Memorial Day, 2009

By the President of the United States of America

A Proclamation

Each year on this day, Americans pause to remember a patriot and champion of liberty who fought valiantly for the freedom of our Nation. During our struggle for independence, General Casimir Pulaski displayed heroic leadership and ultimately sacrificed his life in service to our country. His commitment to liberty remains an inspiration to us today, 230 years later, and it serves as a reflection of the many contributions Polish Americans have made to our national identity.

Born in Poland in 1745, Brigadier General Casimir Pulaski witnessed the occupation of Poland by foreign troops during his youth. He joined the struggle for Polish independence in 1768, fighting alongside his father with unwavering determination. Despite the tremendous courage of Pulaski and his compatriots, the foreign forces prevailed and Poland was divided among three of its neighbors. The young Casimir Pulaski was exiled, and, while in Paris, met America’s envoy to France, Benjamin Franklin, and learned of our nascent quest for independence.

Arriving in America during the summer of 1777, General Pulaski quickly earned a commission and led his troops with admirable skill in a number of important campaigns. He would eventually become known as the “Father of the American Cavalry.” In 1779, Pulaski was mortally wounded during the siege of Savannah while trying to rally his troops under heavy enemy fire. Before laying down his life for the United States, this Polish and American hero had earned a reputation for his idealism and his courageous spirit.

Pulaski’s ideals live on today in the many Polish-American communities across the country. These neighborhoods continue to celebrate Polish culture, while adding immeasurably to our national identity. Their contributions have expanded our collective knowledge, pushing the boundaries of science, business, and the arts. With each passing year, the cooperation between the United States and Poland grows, supported by the dedication and commitment of Polish Americans to our shared history. Today, as we remember General Pulaski, we celebrate our strong friendship with Poland, and honor those Americans of Polish heritage.

NOW, THEREFORE, I, BARACK OBAMA, President of the United States of America, by virtue of the authority vested in me by the Constitution and the laws of the United States, do hereby proclaim Sunday, October 11, 2009, as General Pulaski Memorial Day. I encourage all Americans to commemorate this occasion with appropriate programs and activities paying tribute to Casimir Pulaski and honoring all those who defend the freedom of our great Nation.

IN WITNESS WHEREOF, I have hereunto set my hand this ninth day of October, in the year of our Lord two thousand nine, and of the Independence of the United States of America the two hundred and thirty-fourth.

[FR Doc. E9-25083

Filed 10-15-09; 8:45 am]

Billing code 3195-W9-P